DEPARTMENT OF TRANSPORTATION

Coast Guard

[USCG 2000-7502]

Merchant Marine Personnel Advisory Committee

AGENCY: Coast Guard, DOT.

ACTION: Notice of charter renewal.

SUMMARY: The Secretary of Transportation has renewed the charter for the Merchant Marine Personnel Advisory Committee (MERPAC) to remain in effect for a period of two years from May 20, 2000, until May 20, 2002. MERPAC is a federal advisory committee constituted under 5 U.S.C. App. 2. Its purpose is to advise the Coast Guard on matters relating to the training, qualification, licensing, certification and fitness of seamen serving in the U.S. merchant marine. The charter is available on MERPAC's Internet web page at http://www.uscg.mil/hg/g-m/advisory/merpac/merpac.htm.

FOR FURTHER INFORMATION CONTACT: Lieutenant Commander Luke B. Harden, Acting Executive Director, or Mr. Mark C. Gould, Assistant to the Executive Director, Commandant (G-MSO-1), U.S. Coast Guard, 2100 Second Street SW, Washington, DC 20593-0001, telephone 202-267-0229.

Dated: June 14, 2000.
Howard L. Hime,
Acting Director of Standards.

[FR Doc. 00-15513 Filed 6-19-00; 8:45 am]

BILLING CODE 4910-15-U